DEPARTMENT OF THE INTERIOR

Office of the Secretary

[GWCRC Meeting Notice No. 4-04]

Guam War Claims Review Commission

The Guam War Claims Review Commission, pursuant to section 10 of the Federal Advisory Committee Act (5 U.S.C. App. 10), hereby gives notice in regard to the scheduling of meetings for the transaction of Commission business, as follows:

Date and Time: Wednesday, June 2, 2004, 10 a.m.; Thursday, June 3, 2004, 10 a.m.; Friday, June 4, 2004, 10 a.m.

Place: 600 E St., NW., Room 6002, Washington, DC.

Subject Matter: Discussion of the report which the Commission is required to submit to the Secretary of the Interior and Congressional committees under the Guam War Claims Review Commission Act, Public Law 107-333.

Status: Open.

Requests for information concerning these meetings should be addressed to David Bradley, Executive Director, Guam War Claims Review Commission, c/o Foreign Claims Settlement Commission of the United States, 600 E St., NW., Washington DC 20579, telephone (202) 616-6975, FAX (202) 616-6993.

Mauricio J. Tamargo,
Chairman.

[FR Doc. 04-11602 Filed 5-21-04; 8:45 am]

BILLING CODE 4310-93-P